SMALL BUSINESS ADMINISTRATION

Public Federal Regulatory Enforcement Fairness Hearing; Region VI Regulatory Fairness Board

The U.S. Small Business Administration (SBA) Region VI Regulatory Fairness Board and the SBA Office of the National Ombudsman will hold a public hearing on Friday, February 23, 2007, at 10 a.m. The meeting will take place at the State Capitol, Blue Room, NE 23rd & Lincoln Boulevard, Oklahoma City, OK 73105. The purpose of the meeting is to receive comments and testimony from small business owners, small government entities, and small non-profit organizations concerning regulatory enforcement and compliance actions taken by Federal agencies.

Anyone wishing to attend or to make a presentation must contact Darla Booker, in writing or by fax, in order to be placed on the agenda. Darla Booker, Public Information Officer, SBA, Oklahoma District Office, 301 NW 6th Street, Suite 116, Oklahoma City, OK 73102, phone (405) 609-8012 and fax (202) 401-0944, e-mail: Darla.booker@sba.gov.

For more information, see our Web site at www.sba.gov/ombudsman.

Matthew Teague,
Committee Management Officer.

[FR Doc. E7-1897 Filed 2-5-07; 8:45 am]

BILLING CODE 8025-01-P